DEPARTMENT OF VETERANS AFFAIRS

Cost-of-Living Adjustments Effective December 1, 2016

AGENCY: Department of Veterans Affairs.

ACTION: Notice.

SUMMARY: As required by law, the Department of Veterans Affairs (VA) is hereby giving notice of cost-of-living adjustments (COLAs) in certain benefit rates. These COLAs affect the dependency and indemnity compensation (DIC) program. The rate of the adjustment is tied to the increase in Social Security benefits effective December 1, 2016, as announced by the Social Security Administration (SSA). SSA has announced an increase of 0.3%.

DATES: The COLAs are effective December 1, 2016.

FOR FURTHER INFORMATION CONTACT: Daniel McCargar, Pension Analyst, Pension and Fiduciary Service, Veterans Benefits Administration, Department of Veterans Affairs, 810 Vermont Avenue NW., Washington, DC 20420 (612-713-8911).

SUPPLEMENTARY INFORMATION: The provisions of Public Law 114-197, “Veterans' Compensation COLA Act of 2016,” require VA to increase the benefit rates of DIC programs by the same percentage, and effective the same date, as increases in the benefit amounts payable under title II of the Social Security Act, effective December 1, 2016. VA must also publish the increased rates in the Federal Register.

SSA has announced a 0.3% COLA increase in Social Security benefits effective December 1, 2016. Therefore, applying the same percentage, the following increased rates and income limitations for the DIC program will be effective December 1, 2016:

Dependency and Indemnity Compensation Monthly Payment Rates

DIC Payable to a Surviving Spouse—Veteran Death On or After January 1, 1993

Basic Monthly Rate: $1,257.95.

If, at the time of the Veteran's death, the Veteran was in receipt of or entitled to receive compensation for a service-connected disability rated totally disabling (including a rating based on individual unemployability) for a continuous period of at least eight years immediately preceding death AND the surviving spouse was married to the Veteran for those same eight years, add: $267.12.

For each dependent child under the age of 18, add: $311.64.

If the surviving spouse is entitled to aid and attendance benefits, add $311.64.

If the surviving spouse is entitled to housebound benefits, add $145.99.

If the surviving spouse has one or more children under the age of 18 on the award, add the 2-year transitional benefit of $270.00 (no change to this rate as a result of the round-down in 38 U.S.C. 1311(f)(4)).

DIC Payable to a Surviving Spouse—Veteran Death Prior to January 1, 1993

Veteran paygrade | Amount payable (d, e)
E-1(f) | $1,257.95
E-2(f) | 1,257.95
E-3(a,f) | 1,257.95
E-4(f) | 1,257.95
E-5(f) | 1,257.95
E-6(f) | 1,257.95
E-7(g) | 1,301.44
E-8(g) | 1,373.92
E-9(g) | 1,432.93
E-9(b) | 1,546.82
W-1(g) | 1,328.36
W-2(g) | 1,381.16
W-3(g) | 1,421.54
W-4(g) | 1,504.37
O-1(g) | 1,328.36
O-2(g) | 1,373.92
O-3(g) | 1,468.13
O-4 | 1,556.13
O-5 | 1,712.47
O-6 | 1,930.94
O-7 | 2,084.16
O-8 | 2,289.17
O-9 | 2,448.61
O-10 | 2,685.70
O-10(c) | 2,882.42
(a) Surviving spouse of Aviation Cadet or other service not covered by this table is paid the DIC rate for enlisted E-3.
(b) Veteran who served as Sergeant Major of the Army or Marine Corps, Senior Enlisted Advisor of the Navy, Chief Master Sergeant of the Air Force, or Commandant of the Marine Corps, or as Commandant of the Coast Guard.
(c) Veteran served as Chairman of the Joint Chiefs of Staff, Chief of Staff of the Army or Air Force, Chief of Naval Operations, Commandant of the Marine Corps, or as Commandant of the Coast Guard.
(d) If surviving spouse entitled to aid and attendance, add $311.64; if entitled to housebound, add $145.99.
(e) Add $311.64 for each child under 18.
(f) Add $267.12 if Veteran was rated totally disabled for eight continuous years prior to death and surviving spouse was married to Veteran those same eight years.
(g) Base rate is $1,525.07 if Veteran was rated totally disabled eight continuous years prior to death and surviving spouse was married to Veteran those same eight years.

DIC Payable to Children

Surviving Spouse Entitled

For each child over the age of 18 who is attending an approved course of education, the rate is $264.02.

For each child over the age of 18 who is helpless, the rate is $531.14.

No Surviving Spouse Entitled

Number of children | Total payable | Each child's share
1 | $531.14 | $531.14
2 | 764.09 | 382.04
3 | 997.05 | 332.35

For each additional child, add $189.48 to the total payable.

For each additional helpless child over 18, add $311.64 to the total payable.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document, for publication.

Dated: January 12, 2017.
Jeffrey Martin,
Office Program Manager, Office of Regulation Policy & Management, Office of the Secretary, Department of Veterans Affairs.

[FR Doc. 2017-01458 Filed 1-23-17; 8:45 am]

BILLING CODE 8320-01-P